DEPARTMENT OF COMMERCE

Bureau of Industry and Security

15 CFR Parts 740, 742, 744, 772, and 774

[Docket No. 170831854-7854-01]

RIN 0694-AH44

Wassenaar Arrangement 2017 Plenary Agreements Implementation

Correction

In rule 2018-22163 beginning on page 53742 in the issue of Wednesday, October 24, 2018 make the following correction:

Supplement No. 1 to Part 774, Category 3 [Corrected]

On page 53761, in the second column, the “CIV” paragraph for entity 3A001 was inadvertently omitted. Under line twenty-six, it should read, “CIV: Yes for 3A001.a.3, a.7, and a.11.”

[FR Doc. C1-2018-22163 Filed 11-1-18; 8:45 am]

BILLING CODE 1301-00-D